CORPORATION FOR NATIONAL AND COMMUNITY SERVICE

Proposed Information Collection; Comment Request

AGENCY: Corporation for National and Community Service.

ACTION: Notice.

SUMMARY: The Corporation for National and Community Service (hereinafter the Corporation), as part of its continuing efforts to solicit donations in furtherance of the purposes of the national service laws, will submit the following public information collection request (ICR) to the Office of Management and Budget (OMB) for review and approval in accordance with the Paperwork Reduction Act of 1995, Pub. L. 104-13 (44 U.S.C. Chapter 35). This program helps to ensure that requested data can be provided in the desired format, reporting burden (time and financial resources) is minimized, collection instruments are clearly understood, and the impact of the collection requirement on respondents can be properly assessed.

Currently, the Corporation for National and Community Service is soliciting comments concerning its proposed ephilanthropy efforts. The Corporation does not have an internal mechanism for soliciting and accepting donations. Currently, the Corporation has contracted with pay.gov, which is an authorized provider through the U.S. Department of Treasury. Donations are primarily received from individuals. With ephilanthropy, the Corporation will be able to receive donated gifts from members of the general public online—primarily individuals wishing to donate gifts between $10.00 (minimum) and $1,000.00.

DATES: Written comments must be submitted to the individual and office listed in the ADDRESSES section by July 25, 2005.

ADDRESSES: You may submit comments, identified by the title of the information collection activity, by any of the following methods:

(1) By mail sent to: Corporation for National and Community Service. Attn: Daphne Benbow, Corporate Affairs Associate, Office of Public Affairs, 1201 New York Avenue, NW., 10th floor, Washington, DC 20525.

(2) By hand delivery or by courier to the Corporation's mailroom at Room 6010 at the mail address given in paragraph (1) above, between 9 a.m. and 4 p.m. Monday through Friday, except Federal holidays.

(3) By fax to: (202) 606-3460, Attention Daphne Benbow, Corporate Affairs Associate.

(4) Electronically through the Corporation's e-mail address system: dbenbow@cns.gov.

FOR FURTHER INFORMATION CONTACT: Daphne Benbow at (202) 606-6718 or by e-mail at dbenbow@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are expected to respond, including through the use of appropriate automated, electronic, mechanical, or other technological collection techniques or other forms of information technology, (e.g., permitting electronic submissions of responses.)

Background

Ephilanthropy reflects the Corporation's strong committment to effective solicitation, management and acknowledgment of donor relations in increasing the support of its programs. The information that will be collected will include, but is not limited to, the donor's intent (to which program they would like to donate), the donor's full contact information, the donor's payment information, and some optional questions about volunteering for a Corporation program and other interests of the Corporation.

Current Action

The Corporation seeks public comment on the forms, the instructions for the forms, and the instructions for the narrative portion of these application instructions.

Type of Review: New collection.

Agency: Corporation for National and Community Service.

Title: Ephilanthropy.

OMB Number: None.

Agency Number: None.

Affected Public: Individuals, organizations and corporations.

Total Respondents: 240 (20 per month).

Frequency: Annually.

Average Time Per Response: 5 minutes.

Estimated Total Burden Hours: 100 hours.

Total Burden Cost (Capital/Startup): None.

Total Burden Cost (Operating/Maintenance): None.

Comments submitted in response to this notice will be summarized and/or included in the request for Office of Management and Budget approval of the information collection request; they will also become a matter of public record.

Dated: May 16, 2005.
Sandy Scott,
Director, Office of Public Affairs.

[FR Doc. 05-10554 Filed 5-25-05; 8:45 am]

BILLING CODE 6050-$$-P